DEPARTMENT OF AGRICULTURE

Animal and Plant Health Inspection Service

[Docket No. APHIS-2021-0019]

Notice of Availability of Bovine Tuberculosis Status Evaluation of Eight Mexican Regions and Intent To Classify Those Regions for Bovine Tuberculosis

AGENCY: Animal and Plant Health Inspection Service, USDA.

ACTION: Notice of availability.

SUMMARY: We are advising the public that we are proposing to classify eight Mexican regions for bovine tuberculosis as follows: The State of Sonora as Level II; the Yucatán Peninsula region (States of Yucatán and Quintana Roo, and part of the State of Campeche), the Huasteca region (parts of the States of Puebla, Veracruz, and Hidalgo), part of the State of Chihuahua, and part of the State of Durango as Level III; and part of the State of Coahuila, part of the State of Nuevo León, and the State of Tamaulipas as Level IV. These proposed recognitions are based on an evaluation we have prepared in connection with this action, which we are making available for review and comment.

DATES: We will consider all comments that we receive on or before October 25, 2022.

ADDRESSES: You may submit comments by either of the following methods:

• Federal eRulemaking Portal: Go to www.regulations.gov. Enter APHIS-2021-0019 in the Search field. Select the Documents tab, then select the Comment button in the list of documents.

• Postal Mail/Commercial Delivery: Send your comment to Docket No. APHIS-2021-0019, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Kari Coulson, Import Risk Analyst, Regionalization Evaluation Services, Strategy and Policy, VS, APHIS, USDA, 920 Main Campus Drive, Venture II, 3rd floor, Raleigh, NC 27606; AskRegionalization@usda.gov; (919) 480-9876.

SUPPLEMENTARY INFORMATION: The regulations in 9 CFR part 93, subpart D (§§ 93.400 through 93.442, referred to below as part 93 or the subpart), contain requirements for the importation of ruminants into the United States to address the risk of introducing or disseminating diseases of livestock within the United States. Part 93 currently contains provisions that address the risk that imported bovines (cattle or bison) may introduce or disseminate bovine tuberculosis within the United States. Within part 93, § 93.437 contains the requirements for classification of foreign regions for bovine tuberculosis and § 93.438 contains the process for requesting regional classification for bovine tuberculosis.

In accordance with § 93.437(f), the Animal and Plant Health Inspection Service (APHIS) maintains lists of all Level I, Level II, Level III, Level IV, and Level V regions for bovine tuberculosis and adds foreign regions classified in accordance with § 93.438 to these lists. In accordance with § 93.437(e), regions that do not have a program that meets APHIS requirements for bovine tuberculosis classification, have a prevalence of bovine tuberculosis in their domestic bovine herds equal to or greater than 0.5 percent, or are unassessed by APHIS with regard to bovine tuberculosis are considered to be Level V.

Paragraph (a) of § 93.438 provides that a representative of a national government with authority to make such a request may request that APHIS classify a region for bovine tuberculosis. Within that same section, paragraph (b) provides that if, after reviewing and evaluating the request for bovine tuberculosis classification, APHIS believes the region can be accurately classified, APHIS will publish a notice in the Federal Register with the proposed classification and make its evaluation available for public comment. Following the close of the comment period, APHIS will review all comments received and will make a final determination regarding the request that will be detailed in another document published in the Federal Register.

The Government of Mexico has requested that APHIS evaluate and classify several Mexican regions for bovine tuberculosis. APHIS has evaluated eight of the proposed Mexican regions to date in response to this request: The State of Sonora; the Yucatán Peninsula region (States of Yucatán and Quintana Roo, and part of the State of Campeche); the Huasteca region (parts of the States of Puebla, Veracruz, San Luis Potosí, and Hidalgo); part of the State of Chihuahua, part of the State of Durango; part of the State of Coahuila; part of the State of Nuevo León; and the State of Tamaulipas. We have detailed the findings and conclusions in a document titled “APHIS Evaluation of Eight Mexican Regions for Bovine Tuberculosis (M. bovis) Classification” (March 2022). The evaluation concludes that the Sonora region meets the conditions to be classified as Level II for bovine tuberculosis, which supports adding the Sonora region to the web-based list of Level II regions for bovine tuberculosis. The evaluation also concludes that the Yucatán Peninsula (States of Yucatán and Quintana Roo, and part of the State of Campeche), Huasteca (including parts of the States of Puebla, Veracruz, and Hidalgo, but excluding San Luis Potosí), Chihuahua, and Durango regions meet the conditions to be classified as Level III for bovine tuberculosis, which supports adding the Yucatán Peninsula, Huasteca (parts of the States of Puebla, Veracruz, and Hidalgo), Chihuahua, and Durango regions to the web-based list of Level III regions for bovine tuberculosis. The evaluation further concludes that the Coahuila, Nuevo León, and Tamaulipas regions meet the conditions to be classified as Level IV for bovine tuberculosis, which supports adding the Coahuila, Nuevo León, and Tamaulipas regions to the web-based list of Level IV regions for bovine tuberculosis.

Additionally, although the Government of Mexico requested inclusion of part of the State of San Luis Potosí (Zone A1) in the Huasteca region, the APHIS evaluation concluded that Zone A1 does not meet the conditions to be classified as Level III at this time. San Luis Potosí (Zone A1) is eligible to export bovine animals to the United States under a previous agreement. Pursuant to a final rule published in the Federal Register on September 17, 2020 (85 FR 57944-57956, Docket No. APHIS-2011-0044),¹ San Luis Potosí (Zone A1) will continue to be able to trade with the United States under the terms of the status it currently holds until we reevaluate the zone and act to classify the zone in accordance with § 93.437.

¹ To view the final rule, go to www.regulations.gov and enter APHIS-2011-0044 in the Search field.

Regions of Mexico not listed above do not currently hold bovine tuberculosis status and are not eligible to export bovine animals to the United States except to direct slaughter. These regions either do not have a program that meets APHIS requirements for bovine tuberculosis classification or are unassessed by APHIS with regard to bovine tuberculosis and would be considered Level V for bovine tuberculosis.

Therefore, in accordance with § 93.438(b), we are announcing the availability of our evaluation of these eight Mexican regions for bovine tuberculosis for public review and comment.

Information submitted in support of Mexico's request is available by contacting the person listed under FOR FURTHER INFORMATION CONTACT.

After reviewing any comments we receive, we will announce our final determination regarding classification of these eight Mexican regions with respect to bovine tuberculosis in a subsequent notice.

National Environmental Policy Act

On December 27, 2021, we published in the Federal Register a notice (86 FR 73238-73239, Docket No. APHIS-2020-0071) announcing that we were classifying Canada as Level I for brucellosis and bovine tuberculosis. That final notice was accompanied by a final environmental assessment and finding of no significant impact (FONSI). The final environmental assessment and FONSI also evaluated the possible environmental impacts associated with classifying the State of Sonora as Level II; the Yucatán Peninsula region (States of Yucatán and Quintana Roo, and part of the State of Campeche), the Huasteca region (parts of the States of Puebla, Veracruz, and Hidalgo), part of the State of Chihuahua, and part of the State of Durango as Level III; and part of the State of Coahuila, part of the State of Nuevo León, and the State of Tamaulipas as Level IV for bovine tuberculosis. Accordingly, we direct the public to go to www.regulations.gov and enter APHIS-2020-0071 in the Search field to view those documents, and are not republishing them for this action.

Authority: 7 U.S.C. 1622 and 8301-8317; 21 U.S.C. 136 and 136a; 31 U.S.C. 9701; 7 CFR 2.22, 2.80, and 371.4.

Done in Washington, DC, this 22nd day of August 2022.
Anthony Shea,
Administrator, Animal and Plant Health Inspection Service.

[FR Doc. 2022-18409 Filed 8-25-22; 8:45 am]

BILLING CODE 3410-34-P